DEPARTMENT OF ENERGY

Federal Energy Regulatory Commission

Combined Notice of Filings #1

Take notice that the Commission received the following electric rate filings:

Docket Numbers: ER11-2256-003.

Applicants: California Independent System Operator Corporation.

Description: 2012-03-02 CAISO CPM OOS Filing to be effective 2/16/2012.

Filed Date: 3/2/12.

Accession Number: 20120302-5172.

Comments Due: 5 p.m. ET 3/23/12.

Docket Numbers: ER11-4055-001; ER10-2977-001; ER11-3987-002; ER10-1290-002; ER10-3211-002; ER10-2814-001; ER10-3026-001.

Applicants: Copper Mountain Solar 1, LLC.

Description: Sempra Supplement to Notice of Change in Status.

Filed Date: 3/2/12.

Accession Number: 20120302-5208.

Comments Due: 5 p.m. ET 3/23/12.

Docket Numbers: ER12-458-004.

Applicants: Quantum Choctaw Power, LLC.

Description: Quantum Choctaw Power Compliance Filing to be effective 2/14/2012.

Filed Date: 3/2/12.

Accession Number: 20120302-5112.

Comments Due: 5 p.m. ET 3/23/12.

Docket Numbers: ER12-1196-000.

Applicants: Idaho Power Company.

Description: Schedule 4 & 10—Energy & Generator Imbalance Changes to be effective 3/5/2012.

Filed Date: 3/2/12.

Accession Number: 20120302-5119.

Comments Due: 5 p.m. ET 3/23/12.

Docket Numbers: ER12-1197-000.

Applicants: Vermont Yankee Nuclear Power Corporation.

Description: Vermont Yankee Notice of Cancellation of MBR Tariff to be effective 3/21/2012.

Filed Date: 3/2/12.

Accession Number: 20120302-5173.

Comments Due: 5 p.m. ET 3/23/12.

Take notice that the Commission received the following electric securities filings:

Docket Numbers: ES12-25-000.

Applicants: NorthWestern Corporation.

Description: Application of NorthWestern Corporation for Authorization under Section 204 of the Federal Power Act to Issue Securities and Request for Shortened Comment Period.

Filed Date: 3/2/12.

Accession Number: 20120302-5200.

Comments Due: 5 p.m. ET 3/23/12.

Take notice that the Commission received the following open access transmission tariff filings:

Docket Numbers: OA07-28-005.

Applicants: Avista Corporation.

Description: Avista Corporation's Informational Filing of Operational Penalty Assessments and Distributions as Required by Order Nos. 890 and 890-A.

Filed Date: 3/2/12.

Accession Number: 20120302-5203.

Comments Due: 5 p.m. ET 3/23/12.

Take notice that the Commission received the following qualifying facility filings:

Docket Numbers: QF12-252-000.

Applicants: Elk Hills Power, LLC.

Description: Elk Hills Power, LLC submits FERC Form 556 Notice of Certification of Qualifying Facility Status for a Cogeneration Facility.

Filed Date: 3/1/12.

Accession Number: 20120301-5252.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2012.
Nathaniel J. Davis, Sr.,
Deputy Secretary.

[FR Doc. 2012-5903 Filed 3-9-12; 8:45 am]

BILLING CODE 6717-01-P